DEPARTMENT OF HEALTH AND HUMAN SERVICES

Centers for Disease Control and Prevention

National Center for Chronic Disease Prevention and Health Promotion Conference Support Program; Correction

A notice announcing the availability of Fiscal Year 2005 funds to award a Grant Agreement to Support Chronic Disease Prevention and Health Promotion Conferences, PA 05031 was published in the Federal Register on November 3, 2004, Volume 69, Number 212, pages 64057-64062. The notice is corrected as follows:

On page 64059, first column, under III.3 Other, Special Requirements, fourth bullet, delete the bullet that reads, “Applicants who do not submit a LOI will not be eligible to submit an application for review or funding.”

On page 64059, first column, under IV.2 Content and Form of Submission, Letter of Intent (LOI), first paragraph, delete the first and the fourth sentence that reads, “A LOI is required for this Program Announcement” and “If you do not submit a LOI, you will not be allowed to submit an application.”

On page 64060, first column, under IV.3 Submission Dates and Times, change to extend the LOI Deadline Date: Cycle B: February 14, 2005, delete the paragraph that reads, “CDC requires that you submit a LOI if you intend to apply for this program. Although the LOI will not be evaluated, and does not enter into review of your subsequent application, failure to submit a timely LOI will preclude you from submitting an application.” and replace with the following, “CDC requests that you send a LOI if you intend to apply for this program. Although the LOI is not required, not binding, and does not enter into the review of your subsequent application, the LOI will be used to gauge the level of interest in this program, and to allow CDC to plan the application review.”

Dated: February 3, 2005.
William P. Nichols,
Director, Procurement and Grants Office, Centers for Disease Control and Prevention.

[FR Doc. 05-2493 Filed 2-8-05; 8:45 am]

BILLING CODE 4163-18-P